DEPARTMENT OF HEALTH AND HUMAN SERVICES

Administration for Children and Families

[Program Announcement No. ACYF-PA-CCB-2001-02]

Technical Assistance Child Care Grant

AGENCY: Administration on Children, Youth and Families (ACYF), ACF, DHHS.

ACTION: Announcement of availability of competitive financial assistance for private, nonprofit intermediaries to demonstrate the provision of technical assistance to child care providers to improve the quality and supply of child care facilities.

SUMMARY: The purpose of this program announcement is to announce the availability of fiscal year (FY) 2001 funds, authorized under the FY 2001 Consolidated Appropriations Act (Pub. L. 106-554), for grants to qualified private, nonprofit intermediaries to increase the quality and supply of child care facilities in low-income communities. Eligible intermediaries are private, nonprofit intermediary organizations that have demonstrated experience and results in providing technical assistance to child care providers in the renovation or construction of facilities and in securing private sources for capital financing of child care facilities in low-income communities.

DATES: The closing date for submission of applications is June 11, 2001. Mailed applications postmarked after the closing date will be classified as late.

Deadline: Mailed applications shall be considered as meeting an announced deadline if they are either received on or before the deadline date, or sent on or before the deadline date, and received by ACF in time for the independent review to: Administration on Children, Youth and Families, Child Care Bureau Program Announcement No. ACYF-PA-CCB-2001-02, 1815 North Fort Myer Drive, Suite 300, Arlington, VA 22209.

Applicants are cautioned to request a legibly dated U.S. Postal Service postmark or to obtain a legibly dated receipt from a commercial carrier or U.S. Postal Service. Private Metered postmarks shall not be acceptable as proof of timely mailing.

Applications hand-carried by applicants, applicant couriers, or by overnight/express mail couriers shall be considered as meeting an announced deadline if they are received on or before the deadline date, between the hours of 8:00 a.m. and 4:30 p.m., at the Administration on Children, Youth and Families, Child Care Bureau Program Announcement, 1815 North Fort Myer Drive, Suite 300, Arlington, VA 22209, between Monday and Friday (excluding Federal holidays). (Applicants are cautioned that express/overnight mail services do not always deliver as agreed.)

ACF cannot accommodate transmission of applications by fax or through other electronic media. Therefore, applications transmitted to ACF electronically will not be accepted regardless of date or time of submission and time of receipt.

Late Applications: Applications which do not meet the criteria above are considered late applications. ACF shall notify each late applicant that its applications will not be considered in the current competition.

Extension of Deadlines: ACF may extend an application deadline for applicants affected by acts of God such as floods and hurricanes, when there is widespread disruption of mail service, or for other disruptions of services, such as a prolonged blackout, that affect the public at large. A determination to waive or extend deadline requirements rests with the Chief Grants Management Officer.

FOR FURTHER INFORMATION CONTACT: Eleanor M. Wagoner, Administration for Children and Families, Child Care Bureau, Room 2313, Mary E. Switzer Building, 330 C Street, S.W., Washington, DC 20447, Phone: (202) 205-8087, Fax: (202) 690-5600, E-mail: ewagoner@acf.dhhs.gov

Notice of Intent to Submit Application:

If you intend to submit an application, please contact ACYF's Operations Center at 1-800-351-2293 with the following information: the number and title of this announcement; your organization's name and address; and your contact person's name, phone number, fax number, and e-mail address. This information will be used to determine the number of expert reviewers needed to evaluate applications and to update the mailing list for program announcements.

SUPPLEMENTARY INFORMATION: The ACF Uniform Discretionary Grant Application Form covering all ACF announcements, contained in the Application Kit, and this Supplementary Information section contain all the forms and instructions needed to apply for a grant under this announcement. No additional application materials are needed.

The Supplementary Information section consists of seven parts. Part I provides general information about funding requirements, and application procedures for child care grants under this program announcement. Part II provides background information on the Child Care Bureau, and the context for the work to be accomplished by this grant. Part III describes child care goals and priorities related to this announcement. Part IV provides instructions for the Uniform Project Description. Part V describes the evaluation criteria and selection process. Part VI describes the application process. Part VII provides information on the content of the application and submission instructions. The contents are outlined below:

Table of Contents

Part I. General Information

A. Purpose

B. Citations

C. Number of Awards

D. Project Duration

E. Funding Levels and Budget Periods

F. Non-Federal Share of Project Costs

G. Eligibility

Part II. Background and Context

A. The Child Care Bureau

B. Current Availability of Affordable Child Care in Low-Income Communities

C. Need for Technical Assistance

D. Definitions

Part III. Child Care Grants: Goals and Priorities

A. Regulatory and Statutory Requirements

B. Coordination

C. Public Participation

D. Services to a Range of Providers

E. Replicability and Sustainability of Project

F. Allowable Use of Funds

Part IV. General Instructions for the Uniform Project Description

The Project Description Overview

Purpose

General Instructions

Instructions for Preparing a Full Project Description

A. Introduction

B. Project Summary/Abstract

C. Objectives and Need for Assistance

D. Results or Benefits Expected

E. Approach

F. Evaluation

G. Geographic Location

H. Additional Information

Part V. Evaluation Criteria and Selection Process

A. Evaluation Criteria

B. The Selection Process

C. Funding Date

Part VI. Application Process

A. Assistance of Prospective Grantees

B. Application Requirements

C. Paperwork Reduction Act

D. Notification Under Executive Order 12372

E. Availability of Forms and Other Materials

F. Application Consideration

Part VII. Application Content and Submission Instructions

A. Application Content

B. Application Submission

Part I. General Information

A. Purpose

The purpose of this program announcement is to provide funding for ten or more private, nonprofit intermediaries ¹ for the provision of technical assistance to child care providers to improve the quality and supply of child care facilities in low-income communities and to document the changes.

¹ Intermediaries are organizations that offer a broad range of entrepreneurial training and technical assistance to child care providers to enable them to become “loan ready” for the establishment or renovation of child care facilities. Intermediary organizations may be banks, collaboratives, investment funds, foundations, or other entities with the capacity to serve as intermediaries between child care providers and financing entities.

B. Citations

1. Sponsorship

Grants being awarded under this announcement are sponsored by the Child Care Bureau (the Bureau) of the Administration on Children, Youth and Families (ACYF) in the Administration for Children and Families (ACF), U.S. Department of Health and Human Services (DHHS). The Bureau will manage the projects.

2. Funding Authority

Funding is being provided by ACF, authorized under the Fiscal Year 2001 Consolidated Appropriations Act (Pub. L. 106-554). The estimated total funding available under this announcement is $2,500,000.

3. Catalog of Federal Domestic Assistance

The Catalog of Federal Domestic Assistance Number is 93.647.

C. Number of Awards

Ten or more projects will be funded in fiscal year 2001 (awards will be dated September 30, 2001), subject to the availability of funds and results of the application review process. At least one grant of up to $250,000 may be made to an applicant who targets the proposed technical assistance project to serve tribes and tribal organizations, on a national basis.

D. Project Duration

The total project period will be 17 months.

E. Funding Levels and Budget Periods

Awards will be for a 17-month budget and project period. Amounts will range between $150,000 and $250,000 for a budget period of 17 months.

F. Non-Federal Share of Project Costs

Grantees must provide at least 20 percent of the total approved cost of the project. The total approved cost of the project is the sum of the ACF share and the non-Federal share. The non-Federal share may be met by cash or in-kind contributions, although applicants are encouraged to meet their match requirements through cash contributions. Therefore, a project requesting $250,000 in Federal funds must provide a match of at least $62,500 (20% total approved project cost). Grantees will be held accountable on the grant award for match commitments of non-Federal resources even if the approved amount exceeds the minimum match required. Failure to provide the match commitment amount specified on the grant award can result in a disallowance of Federal funds.

G. Eligibility

Private nonprofit intermediary organizations that have demonstrated experience and results in providing training and technical assistance to child care providers in low-income communities in one or more of the following areas are eligible to apply for funding under this program announcement:

(1) Renovating and/or constructing child care or other public facilities using a variety of funding sources;

(2) Generating revenue from public and private sources for capital financing of public projects (such as child care facilities); and

(3) Increasing the skills of child care providers to develop and access new funding sources.

Priority consideration will be given to applications that target recipients for technical assistance to:

(1) Those in low-income communities² (i.e., localities in which the median family income is no more than 85% of the Statewide median); or

(2) Those child care providers who serve a minimum of 25% low-income children (i.e., children eligible for Federal Child Care and Development Fund or other State or Federal child care subsidies, including Head Start).

² Information on community income levels, based on 1990 census figures, is available on the Census Bureau website at: www.census.gov.people.income.

Primary recipients of technical assistance provided by grantees funded under this project may be nonprofit or for profit providers of child care services. Additional recipients could be community stakeholders with a vested interest in the availability and provision of quality child care services in the community. Potential stakeholders include, but are not limited to, parents, employers, educators, representatives of financial institutions, civic and business leaders, child and family advocates, housing experts, and representatives of local, State, and tribal governments.

Every effort should be made to inform the State lead agency for the Child Care and Development Fund, and, if different, the State agency responsible for licensing child care facilities, of the communities and programs targeted for technical assistance under this announcement and to invite their participation, as appropriate.

Any nonprofit organization submitting an application must submit proof of its nonprofit status in its application at the time of submission. The nonprofit agency can accomplish this by: (1) providing a copy of the applicant's listing in the Internal Revenue Service's (IRS) most recent list of tax-exempt organizations described in Section 501(c)(3) of the IRS code, or (2) providing a copy of the currently valid IRS tax exemption certificate, or (3) providing a copy of the articles of incorporation bearing the seal of the State in which the corporation or association is domiciled.

Part II. Background and Context

A. The Child Care Bureau

The Child Care Bureau was established in 1994 to provide leadership into efforts to enhance the quality, affordability, and supply of child care available for all families. The Child Care Bureau administers the Child Care and Development Fund (CCDF), which includes $4.5 billion for child care subsidies and activities to improve the quality and availability of child care. CCDF was created after later amendments to ACF child care programs by Title VI of the Personal Responsibility and Work Opportunity Reconciliation Act of 1996 which consolidated the Federal funding from the former AFDC/JOBS Child Care, Transitional Child Care, and At-Risk Child Care and subjected it to the requirements of the Child Care and Development Block Grant.

The Child Care Bureau and ACF Regions work closely with States, Territories and Tribes to assist with, oversee, and document implementation of new policies and programs in support of State, local and private sector administration of child care services and systems. In addition, the Bureau collaborates extensively with other offices throughout the Federal government to promote integrated, family-focused services and coordinated child care delivery systems. In all of these activities, the Bureau seeks to enhance the quality, availability, and affordability of child care services, support children's healthy growth and development in safe child care environments, enhance parental choice and involvement in their children's care, and facilitate the linkage of child care with other community services.

B. Current Availability of Affordable Child Care in Low-Income Communities

Having access to high-quality child care is a critical factor in enabling moderate and low-income families to be gainfully employed and, in some cases, to exit the welfare system. The scarcity of child care in low-income communities is consistently identified as one of the principal barriers to employment. Regular child care arrangements are often beyond the reach of working poor families. Recent research confirms that family and center-based care is far more available in affluent communities than in low-income areas. Further, the Government Accounting Office has determined that child care services in low-income communities do not meet the level necessary to serve the families required to exit the welfare caseload. In a 1999 publication on “Access to Child Care for Low-Income Working Families,” the ACF concluded that, while the child-care picture varies from State to State, it is clear that there is a large unmet need for child care assistance throughout the country.

Although States are fully utilizing Federal child care assistance from the Child Care and Development Fund (CCDF) and from State sources, only a small percentage of children eligible under Federal guidelines are actually being served. As a result, child care consumes a major portion of many low-income families' budgets; parents are unable to work productively or take better paying jobs that require longer working hours; and children's health, as well as their social, emotional, and cognitive development suffer when parents are forced to accept inadequate arrangements.

Compounding the child care problem for low-income families is the fact that low-income communities also face a severe shortage of quality child care. The need in low-income communities is expected to worsen as increasing numbers of welfare recipients enter the workforce. Research has shown that low-income communities are significantly underserved by licensed home-based child care providers, and are twice as likely as higher income communities to have no center-based child care at all. Moreover, providers in low-income communities lack access to the technical and financial resources they need to appropriately expand the capacity and quality of their programs by addressing their physical capital needs.³

³ Fuller, B. and Kagan, S., Remember the Children: Mothers Balance Work and Child Care Under Welfare Reform—A Growing Up In Project, Wave 1 Findings, February, 2000.

Stokeley, J., Early Childhood Facilities Development and Finance in Low-Income Neighborhoods, National Economic Development and Law Center, 1995.

C. Need for Technical Assistance

Although child care providers often have training in early childhood development and in caring for young children, they are much less likely to have had training, or be knowledgeable, in the principles of financial management, fundraising, or facility renovation or construction of the child care facilities in which they provide services. This is especially true in low-income communities. Thus, there is a critical need for child care providers in low-income communities to receive appropriate technical assistance if the availability of quality child care in low-income communities is to be increased.

Most large or small businesses are typically able to borrow funds when they need to improve or expand their facilities. However, child care businesses often have trouble securing loans. This is especially true of the child care programs located in low-income neighborhoods. Recent research indicates that there are clear reasons why these problems exist. Many child care providers may be uncomfortable in the world of finance, renovation, and facility construction. Moreover, many child care programs often do not have the equity necessary to secure a loan.⁴ Further, the facilities are designed for the very specific purpose of accommodating young children, and as a result they may not appraise well.⁵ Thus, for these and other reasons, child care programs, especially those in low-income neighborhoods, simply do not have the assets—technically or financially—to secure the capital they need to expand or improve the quality of their facilities.

⁴ “The Business Need of Child Care: An Analysis of the Financing and Technical Assistance Needs of North Carolina's Child Care Providers,” Center for Community Self-Help, Durham, NC, April 1994.

“The Capital Needs of North Carolina's Head Start Programs: Results of a 1995 Survey Co-sponsored by the NC Dept of Human Resources and the NC Head Start Association.” Center for Community Self-Help, Durham, NC, March, 1996.

R. Ferlato, C. Owen, D. Solomon, “The Child Care Credit Crunch: A Survey of Lending for Child Care Facilities”, Center for Policy Alternatives. Washington, DC, June 1993.

Hoskins, A. “Reinvesting in Child Care: Opportunities and Responsibilities for Banks in New York State”. Center for Policy Alternatives. Washington DC, November 1990.

“Financing Early Childhood Facilities: Investment Strategies for California's Low-Income Communities” National Economic Development and Law Center, January 1996.

Kershaw, A. “Making Space for Children: A Toolkit for Starting a Child Care Facilities Fund” Washington, DC: The Finance Project. In press.

⁵ Stoney, L. “Moving Toward Solutions: Breaking the Barriers to Facilities Expansion,” a paper prepared for the New York City Expanding Child Care Opportunities initiative, November, 1997.

In recent years, a tested strategy for addressing the child care problems in low-income communities has begun to emerge, based on related efforts to stimulate economic development activities in the nation's most distressed communities. Nonprofit community development organizations, in concert with nonprofit “intermediaries,” have become successful at using government and philanthropic grants to leverage significant private sector capital investments in housing, community facilities, and commercial enterprises. Some efforts have begun to be made to strengthen the child care industry in these communities. By broadening the investment in experienced intermediary institutions through public-private partnerships, community development organizations are able to expand and strengthen the availability of quality child care in low-income communities.

Consistent with this emerging strategy for addressing the severe shortage of adequate child care space in low-income communities, the FY 2001 Consolidated Appropriations Act (Pub. L. 106-554) allocated $2.5 million “for grants to qualified private, nonprofit intermediaries to demonstrate the provision of technical assistance to child care providers to improve the quality and supply of child care facilities in low-income communities and to document the changes.” The remainder of this Announcement sets out the application requirements and other relevant information necessary for qualified private intermediaries to apply for a technical assistance grant under the provisions of Public Law 106-554.

D. Definitions

This program announcement is based on the following definitions:

Categories of Care—Center-based child care, group home child care, and family child care.

Center-Based Child Care Provider—under applicable State or local law, a provider licensed or otherwise authorized to provide child care services for fewer than 24 hours per day per child in a non-residential setting, unless care in excess of 24 hours is due to the nature of the parent(s)' work.

Child Care and Development Fund (CCDF)—the child care programs conducted under the provisions of the Child Care and Development Block Grant Act, as amended.

Child Care Facilities—real property or modular units appropriate for use by a grantee to carry out a child care program, that meets State and local health and safety standards.

Child Care Providers—a center-based child care provider, a group home child care provider, or a family child care provider for compensation that is licensed, regulated, or registered under applicable State or local law as described in 45 CFR 98.40; and satisfies State and local requirements, including those referred to in 45 CFR 98.41, applicable to the child care services it provides.

Construction—the erection of a facility that does not currently exist.

Discretionary Funds—the funds authorized under the FY 2001 Consolidated Appropriations Act (Pub. L. 106-554).

Family Child Care Provider—one individual who provides child care services, under applicable State or local law, for fewer than 24 hours per day per child, as the sole caregiver, in a private residence other than the child's residence, unless care in excess of 24 hours is due to the nature of the parent(s)' work.

Group Home Child Care Provider—two or more individuals who provide child care services, under applicable State or local law, for fewer than 24 hours per day per child, in a private residence other than the child's residence, unless care in excess of 24 hours is due to the nature of the parent(s)' work.

Indian Tribe—any Indian Tribe, band, nation, or other organized group or community, including any Alaska Native village or regional or village corporation as defined in or established pursuant to the Alaska Native Claims Settlement Act (43 U.S.C. section 1601 et seq.) that is recognized as eligible for the special programs and services provided by the United States to Indians because of their status as Indians.

Intermediaries—private nonprofit organizations that serve as intermediaries between child care providers and financing entities and have experience in providing training and technical assistance for the construction and renovation of physical facilities, and for the development of investment partnerships for the financing of child care facilities or other public facilities in low-income communities.

Licensing or Regulatory Requirements—requirements necessary for a provider to legally provide child care services in a State or locality, or for the facility in which such services are provided.

Major Renovation—(1) Structural changes to the foundation, roof, floor, exterior or load-bearing walls of a facility, or the extension of a facility to increase its floor area; or (2) extensive alteration of a facility such as to significantly change its function and purpose, even if such renovation does not include any structural change.

Provider—the individual 18 years of age or older, or organization providing child care services.

Part III. Child Care Grants: Goals and Priorities

A. Regulatory and Statutory Requirements

In designing a project under this announcement, the applicant should consider the goals of the amended Child Care and Development Block Grant Act, provided at 45 CFR 98.1.

Grants awarded under this announcement in conformance with statutory requirements, are for the provision of technical assistance leading to an increase in the availability and quality of child care facilities by:

(1) Establishing new quality child care facilities in low-income areas that have been previously underserved and/or have unmet needs;

(2) Improving existing facilities to meet State and local health, safety, and licensing standards; and

(3) Building the capacity of child care providers to create new funding partnerships, leverage private funds and resources, and increase the supply of child care in rural and low-income communities.

In addition, the Child Care Bureau is especially interested in projects that will increase the availability of services for infants and toddlers and children with special needs.

B. Allowable Use of Funds

Grants awarded in accordance with this program announcement will be subject to the uniform administrative requirements found at 45 CFR Part 74 (nonprofits). Additional requirements will be specified in the terms and conditions, reporting requirements, and other materials that accompany the award notice. Intermediaries that receive funds under this grant announcement may use the funds to provide technical assistance in areas that result in improvements to child care facilities. Such areas may include: facilities assessment, feasibility studies, cost estimating, and market needs assessment studies. Assisting communities to establish referral services for child care providers to resources that help purchase buildings or building space, relocate programs, expand facilities, or make capital improvements to building or playground areas is another acceptable use of these funds.

By drawing upon the knowledge of child care and community experts, the grantees(s) may provide technical assistance to child care providers and appropriate stakeholders in a variety of areas including, but not limited to:

• establishing facilities and business development partnerships;

• helping organizations seeking to build or expand child care facilities to put together a comprehensive financing package;

• assisting child care providers to become “loan ready;” and

• other areas that will ensure the improvement of the quality and supply of child care facilities in low-income communities (e.g., community planning for child care development; creating statewide policy collaborations for child care facilities and business development; etc.).

Grant award funds under this announcement may not be used for the actual construction or renovation of child care facilities, or for making direct loans for these purposes.

C. Coordination

The applicant must describe how it will coordinate the delivery of technical assistance services to child care providers, and, if applicable, other State and local child care, early childhood development programs, and before- and after-school care services. It is also important that the applicant describe how it will coordinate with and inform the State lead agency for the Child Care and Development Fund, and, if different, the State agency responsible for licensing child care facilities, about the technical assistance being offered, the communities targeted for assistance, and the child care providers participating as recipients of the technical assistance. The technical assistance must assist the participants in developing linkages with funding and resource sources in the community, who will be willing to engage in partnerships for increasing the quality and supply of child care facilities in low-income communities.

D. Public Participation

The applicant, if awarded a grant under this announcement, is encouraged to engage in a planning process that includes parents, providers, and other relevant stakeholders in the community to be served. Following the grant award, the applicant should provide public notice to child care providers, families in need of child care services, and other community stakeholders who may be able to contribute to the success of the project. Such public notice should include information that the technical assistance project will be provided in the targeted community and should also include language encouraging interested parties to participate in the technical assistance training project.

E. Services to a Range of Providers

One of the goals of the Child Care and Development Block Grant Act is “to promote parental choice to empower working parents to make their own decisions on the child care that best suits their family's needs.” In support of this goal, the applicant is encouraged to design and implement a technical assistance project to increase the availability of child care that promotes parental choice in selecting CCDF-funded child care providers, and addresses the child care needs of families for infant-care, or care for children with special needs.

F. Replicability and Sustainability of Project

To maximize the Federal investment in providing technical assistance to improve the quality and supply of child care facilities in low-income communities, the applicant must provide information to demonstrate how the results of the project will have a lasting impact in the community beyond the 17-month project period.

General Instructions for the Uniform Project Description

The applicant is required to submit a full project description and shall prepare the project description statement in accordance with the following instructions. The pages should be numbered and be limited to 50 type-written pages, printed on one side with one inch margins, and using a standard font-size that is no smaller than 12. A table of contents must be included for easy reference.

The evaluation criteria listed in Part V of this Application Package should be used as a way to organize the uniform project description, by providing specific information that addresses, under the appropriate corresponding heading in the application, all components of each criterion (i.e., Objectives and Need for Assistance; Results or Benefits Expected; Approach; Staff and Position Data and Organizational Profiles; and Budget).

It is in the applicant's best interest to ensure that the project description is easy to read, logically developed in accordance with the evaluation criteria and adheres to page limitations. In addition, the applicant should be mindful of the importance of preparing and submitting applications using language, terms, and concepts that are generally known to the child care and early childhood fields.

The following ACF Uniform Project Description has been approved under OMB Control Number 0970-0139. This format is to be used to submit an application under this announcement.

The Project Description Overview

Purpose: The project description provides a major means by which an application is evaluated and ranked to compete with other applications for available assistance. The project description should be concise and complete and should address the activity for which Federal funds are being requested. Supporting documents should be included where they can present information clearly and succinctly.

In preparing your project description, all information requested through each specific evaluation criteria should be provided. Awarding offices use this and other information in making their funding recommendations. It is important, therefore, that this information be included in the application.

General Instructions: ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for each reference.

A. Introduction

Applicants required to submit a full project description shall prepare the project description statement in accordance with the following instructions and the specified evaluation criteria. The instructions give a broad overview of what the project description should include while the evaluation criteria expands and clarifies more program-specific information that is needed.

B. Project Summary/Abstract

Provide a summary of the project description (a page or less) with reference to the funding request.

C. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes.

Incorporate demographic data and participant/beneficiary information, as needed. In developing the project description, the applicant may volunteer or be requested to provide information on the total range of projects currently being conducted and supported (or to be initiated), some of which may be outside the scope of the program announcement.

D. Results or Benefits Expected

Identify the results and benefits to be derived. For example, describe the improvements that will be made to the quality and supply of specified child care facilities in the community or communities in which the technical assistance is provided. Specify who will receive technical assistance, and where and how technical assistance will be provided. Describe how the technical assistance services will benefit the child care providers, children, families, and community, and result in improvement to the quality and supply of child care services in the communities in which the technical assistance is provided. Describe the ways in which the technical assistance provided will result in the development of capacity building skills in the child care community.

E. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data are to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

F. Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

G. Geographic Location

Describe the precise location of the project and boundaries of the area to be served by the proposed project. Maps or other graphic aids may be attached.

H. Additional Information

Following are requests for additional information that need to be included in the application:

1. Staff and Position Data

Provide a biographical sketch for each key person appointed and a job description for each vacant key position. A biographical sketch will also be required for new key staff as appointed.

2. Plan for Project Continuance Beyond Grant Support

Provide a plan for securing resources and continuing project activities after Federal assistance has ceased.

3. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any nonprofit organization submitting an application must submit proof of its nonprofit status in its application at the time of submission.

The nonprofit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

4. Dissemination Plan

Provide a plan for distributing reports and other project outputs to colleagues and the public. Applicants must provide a description of the kind, volume and timing of distribution.

5. Third-Party Agreements

Include written agreements between grantees and subgrantees or subcontractors or other cooperating entities. These agreements must detail scope of work to be performed, work schedules, remuneration, and other terms and conditions that structure or define the relationship.

6. Letters of Support

Provide statements from community, public and commercial leaders that support the project proposed for funding. All submissions should be included in the application OR by application deadline.

7. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

a. General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

b. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

c. Fringe Benefits

Description: Costs of employee fringe benefits unless treated as part of an approved indirect cost rate.

Justification: Provide a breakdown of the amounts and percentages that comprise fringe benefit costs such as health insurance, FICA, retirement insurance, taxes, etc.

d. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

e. Equipment

Description: “Equipment” means an article of non-expendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

f. Supplies

Description: Costs of all tangible personal property other than that included under the Equipment category.

Justification: Specify general categories of supplies and their costs. Show computations and provide other information which supports the amount requested.

g. Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 USC 403(11) (currently set at $100,000). Recipients might be required to make available to ACF such pre-award review and procurement documents as requests for proposals or invitations for bids, independent cost estimates, etc.

Note: Whenever the applicant intends to delegate part of the project to another agency, the applicant must provide a detailed budget and budget narrative for each delegate agency, by agency title, along with the required supporting information referred to in these instructions.

h. Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

i. Indirect Charges

Description: Total amount of indirect costs. This category should be used only when the applicant currently has an indirect cost rate approved by the Department of Health and Human Services (HHS) or another cognizant Federal agency. Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

j. Program Income

Description: The estimated amount of income, if any, expected to be generated from this project.

Justification: Describe the nature, source and anticipated use of program income in the budget or refer to the pages in the application which contain this information.

k. Non-Federal Resources

Description: Amounts of non-Federal resources that will be used to support the project as identified in Block 15 of the SF-424.

Justification: The firm commitment of these resources must be documented and submitted with the application in order to be given credit in the review process. A detailed budget must be prepared for each funding source.

l. Total Direct Charges, Total Indirect Charges, Total Project Costs.

[Self-explanatory]

Part V. Evaluation Criteria and Selection Process

The five criteria that follow will be used to review and evaluate each application. Each of these criterion should be addressed in the project description section of the application. The point values indicate the maximum numerical weight each criterion will be accorded in the review process. Note that the highest possible score an application can receive is 100 points.

A. Evaluation Criteria

Criterion 1. Objectives and Need for Assistance (10 Points)

The applicant must:

1. Specify the goals and objectives of the project and how implementation will fulfill the purposes of the “Technical Assistance Grants” provision in the FY 2001 Consolidated Appropriations Act (i.e., “for grants to demonstrate the provision of technical assistance to child care providers to improve the quality and supply of child care facilities in low-income communities and to document the changes.”).

2. Demonstrate a thorough understanding of the purposes of the Child Care and Development Fund, and the federal regulations that apply to CCDF grants administered by the Child Care Bureau.

3. State the need for assistance by identifying and discussing the critical issues impacting the availability of quality child care in low-income communities and the impact this has on families moving toward economic self-sufficiency.

4. Describe the communities targeted for technical assistance, and indicate the current status of child care facilities in those locations and demonstrate knowledge of potential resources that may be targeted for partnerships in increasing the quality and supply of child care facilities. Maps and other demographic aids may be attached.

Criterion 2. Results and Benefits Expected (30 Points)

The applicant must:

1. Describe the results and benefits expected from the technical assistance to be provided to child care providers and other stakeholders in one or more low-income community(ies). The description must include:

(a) Identifying information about the community(ies) and facility(ies) that are expected to benefit;

(b) A description of the capacities and skills recipients of the technical assistance will develop;

(c) Detailed information about the specific results and benefits expected to be made to the facility(ies) with respect to expansion or improvement of quality child care space and services, including the use of quantitative outcome measures.

2. Describe the criteria to be used to evaluate the results of the technical assistance effort, in terms of:

(a) The specified public and private agencies that have become involved in a partnership whose mission is directed, in whole or in part, at developing, expanding, or improving quality child care facilities in low-income communities;

(b) The amount of State, local and private resources (financial and other) that have been generated; and.

(c) The written plans (with timelines) to actually demonstrate an increase in the supply and/or quality of available child care services in communities receiving technical assistance under this grant award, as a result of that assistance.

Criterion 3. Approach (30 Points)

The applicant must:

1. Include a detailed plan that identifies goals and objectives, and provide a work plan identifying specific activities necessary to accomplish the stated goals and objectives and the communities targeted for technical assistance, including any factors which may accelerate or decelerate the work. Include a timeline that will ensure completion of the project within the 17-month project period.

2. Include participant and beneficiary information, and address how technical assistance will develop the capacity of child care providers to create partnerships leading to the generation of revenue for improving the quality and supply of child care facilities. The following information must be included:

(a) The types of technical assistance to be provided;

(b) The recipients (e.g., child care providers, parents, business and professional members of the community, etc) who are targeted for technical assistance;

(c) The ways in which the technical assistance will develop the capacity of recipients to improve the quality and supply of child care facilities in low income communities;

(d) How the technical assistance will help child care providers assess their community's need for additional or improved services, select suitable sites, leverage funding, and increase the affordability of child care for low-income families; and

(e) The plan for compiling and distributing reports and lessons learned from this project to colleagues and the public.

3. Describe how the applicant will coordinate the delivery of technical assistance to child care providers who will serve children who are eligible to receive CCDF subsidies, and the extent to which other Federal, State, and local public and private businesses, organizations, and parent consumers may be included as technical assistance service recipients. Supporting documentation of need, interest, and participation from community groups may be included. Priority consideration will be given to applications that include a statement from the State Child Care lead agency administrator supporting the proposed project in the targeted community(ies).

4. Describe how the applicant will coordinate with and inform the State lead agency for the Child Care and Development Fund, and, if different, the State agency responsible for licensing child care facilities, about the technical assistance being offered, the communities targeted for assistance, and the child care providers participating as recipients of the technical assistance. Also describe the extent, if any, to which the Lead Agency may participate in the grantee's technical assistance project.

5. Explain how the applicant will address the facility requirements, accommodations, supply, and program needs for infants and children with special needs.

6. Describe how the applicant will develop and implement technical assistance leading to collaboration between child care providers, Head Start programs, other early childhood programs, and traditional and non-traditional community organizations, regarding—(a) the need for new or improved child care facilities and options; (b) why new partnerships are in the best interests of families and the community; and (c) the initiation of agreements among partners leading to commitments of support.

7. Describe how the technical assistance activities implemented under this project will be continued once Federal funding for the project has ended. In the event the applicant cannot obtain new operating funds at the end of the 17-month project period the application must describe the need and specific plans for accomplishing program phase-out, including plans for engaging public and private partners to ensure the sustainability of the project.

Criterion 4. Staff and Position Data and Organizational Profiles (20 Points)

The applicant must:

1. Discuss its organizational experience in the provision of technical assistance in low-income communities on such topics as partnership development, fund raising activities, financing strategies, and facility construction and renovation.

2. Have demonstrated staff and organizational experience in working with child care providers, educators, parents, families, and community leaders to develop partnerships and commitments, based on written agreements, memoranda of understanding, and similar enforceable instruments.

3. Include the following:

(a) Information on the skills, knowledge and experience of the project director and key project staff, including brief resumes of current and proposed staff, as well as job descriptions. Resumes must indicate what position key individuals will fill, and position descriptions must specifically describe the job as it relates to the proposed project.

(b) A list of organizations and consultants who will work on the program, along with a short description of the nature of their effort or contribution.

(c) Information on plans for training project staff as well as staff of cooperating individuals and organizations.

4. Demonstrate the ability of the organization to effectively manage the technical assistance project. Provide (a) a short description of the applicant agency's organization; the types, quantities and costs of services it provides, and (b) identify and discuss the role of other organizations or multiple sites of the agency that will be involved in the provision of technical assistance through this grant. List all these sites, including addresses, phone numbers and staff contact names if different than those on the SF 424.

Note: If the agency is a recipient of funds from the Administration on Children, Youth and Families for services to children and families, or for programs other than that applied for in this application (e.g., Head Start, Child Welfare Services), show how the services supported by these funds are—or will be—different from the services already being offered. Organizational charts may be provided.

5. Provide an annotated listing of the applicant's funding sources and contractual agreements and other relationships that support or complement the provision of technical assistance to child care programs.

Criterion 5. Budget and Budget Justification (10 Points)

A. The applicant must:

1. Show the extent to which the funds requested will be used for the provision of technical assistance to child care service providers and other public and private organizations under this grant. Discussion must refer to—(a) the budget information presented on Standard Forms 424 and 424A and the applicant's budget justification; (b) the cash or in-kind match of 20% of the total grant amount consistent with the requirements in Part I, F, Non-Federal Share of Project Costs; and (c) the results or benefits identified under Criterion 2 above.

2. Describe the fiscal control and accounting procedures that will be used to ensure prudent use, proper disbursement and accurate accounting of funds.

B. The Selection Process

The Commissioner of the Administration on Children, Youth and Families, will make the final selection of the applicants to be funded. Applications may be funded in whole or in part depending on: (1) The ranked order of applicants resulting from the competitive review; (2) staff review and consultations; (3) the combination of projects that best meets the Bureau's objectives; (4) the funds available; and (5) other relevant considerations.

Selected applicants will be notified through the issuance of a Financial Assistance Award that sets forth the amount of funds granted, the terms and conditions of the grant award, the effective date of the award, the budget period for which support is given, and the total project period for which support is provided.

C. Funding Date

It is anticipated that successful applications will be funded in the fourth quarter of FY 2001 (July through September 2001).

Part VI. Application Process

A. Assistance to Prospective Grantees

Potential grantees may direct questions about application forms to the Administration on Children, Youth and Families, Child Care Bureau Program Announcement, 1815 North Fort Myer Drive, Suite 300, Arlington, VA 22209; Telephone: 1-800-351-2293; electronic mail: CCB@lcgnet.com. Questions about program requirements may be directed to Eleanor Wagoner, Child Care Bureau; Telephone 202-205-8087; electronic mail: ewagoner@acf.dhhs.gov.

B. Application Requirements

To be considered for a grant, each application must be submitted on the forms provided in the Application Kit and in accordance with the guidance provided below. The application must be signed by an individual authorized to act for the applicant agency and to assume responsibility for the obligations imposed by terms and conditions of the grant award. If more than one agency is involved in submitting a single application, one entity must be identified as the applicant organization that will have legal responsibility for the grant.

C. Paperwork Reduction Act of 1995 (Public Law 104-13)

Public reporting burden for this collection of information is estimated to average 20 hours per response, including the time for reviewing instructions, gathering and maintaining the data needed, and reviewing the collection of information.

The project description is approved under OMB control number 0970-0139 which expires 12/31/2003.

An agency may not conduct or sponsor, and a person is not required to respond to, a collection of information unless it displays a currently valid OMB control number.

D. Notification Under Executive Order 12372

This program announcement is not covered under Executive Order 12372, Intergovernmental Review of Federal Programs,” and 45 CFR Part 100, “Intergovernmental Review of Department of Health and Human Services Program and Activities.”

E. Availability of Forms and Other Materials

A copy of the forms that must be submitted as part of an application and instructions for completing the application are provided in the Application Kit. Legislation referenced in Part I, section B.2 of this announcement and the CCDF Final Rule (45 CFR parts 98 and 99) may be found in major public libraries and on the Child Care Bureau's web site at http://www.acf.dhhs.gov/programs/ccb/policy1/index.htm. Additional copies of this announcement may be obtained by calling 1-800-351-2293. Many standard forms can also be downloaded and printed from the following ACF webpage: http://www.acf.dhhs.gov/programs/oa/form.htm. An Application Kit containing the necessary forms may be obtained from: Department of Health and Human Services, Administration for Children and Families, Child Care Bureau, Room 2313; Mary E. Switzer Building, 330 C Street, SW., Washington, DC 20447, Attention: ACYF-PA-CCB-2001-02, Telephone: (202) 205-8087

F. Application Consideration

All applications that are complete and conform to the requirements of this program announcement will be subject to a competitive review and evaluation against the specific competitive grant area criteria outlined in Part V of this announcement. This review will be conducted in Washington, DC, by panels of non-Federal experts knowledgeable in the areas of quality child care, facility development and improvement, innovative funding practices and partnerships, and other relevant areas.

Application review panels will assign a score to each application, identifying its strengths and weaknesses. Both Central and Regional Hub office staff will conduct administrative reviews of the applications and the results of the competitive review panels and will recommend applications for funding to the Commissioner, ACYF.

The Commissioner will make the final selection of the applications to be funded. The Commissioner may also elect not to fund any applicants having known management, fiscal, reporting, program, or other problems which make it unlikely that they would be able to provide effective services. Successful applicants will be notified through the issuance of a Financial Assistance Award which will set forth the amount of funds granted, the terms and conditions of the grant, the effective date of the grant, and the budget period for which initial support will be given.

Organizations whose applications will not be funded will be notified in writing by the Commissioner of the Administration on Children, Youth and Families. Every effort will be made to notify all unsuccessful applicants as soon as possible after final decisions are made.

Part VII. Application Content and Submission Instructions

A. Application Content: Each application must contain the following items in the order listed:

1. Application for Federal Assistance (Standard Form 424, REV 4-92). Follow the instructions in the Application Kit. In Item 8 of Form 424, check “New.” In Item 10 of the 424, clearly identify the Catalog of Federal Domestic Assistance (CFDA) program title and number: Child Care and Development Block Grant, 93.647

2. Budget and Budget Justification (Standard Form 424A, REV 4-92). Follow the instructions in the Application Kit. The budget justification should be typed on standard size plain white paper, provide breakdowns for major budget categories and justify significant costs. List amounts and sources of all funds, both Federal and non-Federal, to be used for this project.

3. Project Summary/Abstract (one page maximum). Clearly mark this page with the applicant name as shown on item 5 of the SF 424, identify the title of the proposed project as shown in item 11 and the service area as shown in item 12 of the SF 424. The summary description should not exceed 300 words.

Care should be taken to produce a summary which accurately and concisely reflects the proposed Project. It should describe the objectives of the project, the approach to be used and the results and benefits expected.

4. Assurances/Certifications. The applicant must certify its compliance with: (1) Drug-Free Workplace Requirements; (2) Debarment and Other Responsibilities; and (3) Pro-Children Act of 1994 (Certification Regarding Environmental Tobacco Smoke). A signature on the SF 424 indicates compliance with the Drug Free Workplace.

Applicants must provide a certification concerning Lobbying. Prior to receiving an award in excess of $100,000, applicants shall furnish an executed copy of the lobbying certification. Applicants must sign and return the certification with their applications.

Requirements, Debarment and Other Responsibilities and Environmental Tobacco Smoke Certifications. A signature on the application constitutes an assurance that the applicant will comply with the pertinent Departmental regulations contained in 45 CFR part 74.

5. Documents of Support. The maximum number of pages for supporting documentation is 10 pages, double-spaced, exclusive of letters of support or agreement. These documents must be numbered and might include resumes, photocopies of news clippings, evidence of the program's efforts to coordinate child care services at the local level, etc. Documentation over the ten-page limit will not be reviewed. The applicant may, however, include as many letters of support or agreement as are appropriate.

B. Application Submission: To be considered for funding, the applicant must submit one signed original and two additional copies of the application, including all attachments, to the application receipt point specified above. The original copy of the application must have original signatures, signed in black ink. Each copy must be stapled (back and front) in the upper left corner. All copies of an application must be submitted in a single package.

Because each application will be duplicated, do not use or include separate covers, binders, clips, tabs, plastic inserts, maps, brochures or any other items that cannot be processed easily on a photocopy machine with an automatic feed. Do not bind, clip, staple, or fasten in any way separate subsections of the application, including supporting documentation. Applicants are advised that the copies of the application submitted, not the original, will be reproduced by the Federal government for review.

Dated: April 5, 2001.
James A. Harrell,
Acting Commissioner, Administration on Children, Youth and Families.

[FR Doc. 01-8994 Filed 4-11-01; 8:45 am]

BILLING CODE 4184-01-P